NUCLEAR REGULATORY COMMISSION

[NRC-2024-0001]

Sunshine Act Meetings

TIME AND DATE: Weeks of July 29, August 5, 12, 19, 26, and September 2, 2024. The schedule for Commission meetings is subject to change on short notice. The NRC Commission Meeting Schedule can be found on the internet at: https://www.nrc.gov/public-involve/public-meetings/schedule.html.

PLACE: The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

STATUS: Public.

Members of the public may request to receive the information in these notices electronically. If you would like to be added to the distribution, please contact the Nuclear Regulatory Commission, Office of the Secretary, Washington, DC 20555, at 301-415-1969, or by email at Betty.Thweatt@nrc.gov or Samantha.Miklaszewski@nrc.gov.

MATTERS TO BE CONSIDERED:

Week of July 29, 2024

There are no meetings scheduled for the week of July 29, 2024.

Week of August 5, 2024—Tentative

There are no meetings scheduled for the week of August 5, 2024.

Week of August 12, 2024—Tentative

There are no meetings scheduled for the week of August 12, 2024.

Week of August 19, 2024—Tentative

There are no meetings scheduled for the week of August 19, 2024.

Week of August 26, 2024—Tentative

There are no meetings scheduled for the week of August 26, 2024.

Week of September 2, 2024—Tentative

Thursday, September 5, 2024

10:00 a.m. All Employees Meeting (Public Meeting); (Contact: Sarah Turner 301-287-9058)

Additional Information: The meeting will be held in the Two White Flint North auditorium, 11555 Rockville Pike, Rockville, Maryland. The public is invited to attend the Commission's meeting live by webcast at the Web address— https://video.nrc.gov/.

CONTACT PERSON FOR MORE INFORMATION: For more information or to verify the status of meetings, contact Sarah Turner at 301-287-9058 or via email at Sarah.Turner@nrc.gov.

The NRC is holding the meetings under the authority of the Government in the Sunshine Act, 5 U.S.C. 552b.

Dated: July 24, 2024.
For the Nuclear Regulatory Commission.
Sarah A. Turner,
Information Management Specialist, Office of the Secretary.

[FR Doc. 2024-16662 Filed 7-24-24; 4:15 pm]

BILLING CODE 7590-01-P